INTERNATIONAL TRADE COMMISSION

[Investigation No. 337-TA-891]

Certain Laundry and Household Cleaning Products and Related Packaging Commission Determination Not To Review an Initial Determination Granting a Joint Motion To Terminate the Investigation In Its Entirety; Termination of Investigation

AGENCY: U.S. International Trade Commission.

ACTION: Notice.

SUMMARY: Notice is hereby given that the U.S. International Trade Commission has determined not to review the presiding administrative law judge's (“ALJ”) initial determination (“ID”) (Order No. 10) granting a joint motion by complainant and respondents to terminate the investigation in its entirety based upon a settlement agreement.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 29, 2013, based on a complaint filed by The Clorox Company of Oakland, California (“Clorox”). 78 FR 53479 (Aug. 29, 2013). The complaint alleged violations of section 337 of the Tariff Act of 1930, as amended, 19 U.S.C. 1337, in the importation into the United States, the sale for importation, and the sale within the United States after importation of certain laundry and household cleaning products and packaging thereof by reason of trademark infringement and trademark dilution. The notice of investigation named Industrias AIEn, S.A. de C.V. of Sta. Catarina, Mexico and AIEn USA, LLC of Houston, Texas (collectively, “AIEn”) as respondents.

On November 27, 2013, Clorox and AIEn filed a joint motion to terminate the investigation in its entirety based upon a settlement agreement. On December 3, 2013, the Commission investigative attorney filed a response in support of the motion. No other responses to the motion were filed.

On December 3, 2013, the ALJ issued the subject ID, granting the joint motion to terminate the investigation in its entirety. The ALJ found that the settlement agreement complies with the requirements of Commission Rule 210.21(b) (19 CFR 210.21(b)) and that terminating AIEn from the investigation would not be contrary to the public interest. None of the parties petitioned for review of the ID.

The Commission has determined not to review the ID.

The authority for the Commission's determination is contained in section 337 of the Tariff Act of 1930, as amended (19 U.S.C. 1337), and in section 210.42 of the Commission's Rules of Practice and Procedure (19 CFR 210.42).

Issued: December 19, 2013.
By order of the Commission.
Lisa R. Barton,
Acting Secretary to the Commission.

[FR Doc. 2013-30640 Filed 12-23-13; 8:45 am]

BILLING CODE 7020-02-P